DEPARTMENT OF HEALTH AND HUMAN SERVICES

Office of the Secretary; Office of the Assistant Secretary for Preparedness and Response; Statement of Organization, Functions, and Delegations of Authority

Part A, Office of the Secretary, Statement of Organization, Functions, and Delegations of Authority of the Department of Health and Human Services (HHS) is being amended at Chapter AN, Office of the Assistant Secretary for Preparedness and Response (ASPR), as last amended at 75 Fed. Reg. 35035-38, dated June 21, 2010. This organizational change is to realign the Division of Emergency Care Coordination Center (ECCC) (ANC5) from under the Office of Preparedness and Emergency Operations (ANC) to operating under the Division of Health Systems Policy (ANE3) under the Office of Policy and Planning (ANE). The change is as follows.

I. Under Part A, Chapter AN, Section AN.20, Functions, Paragraph C, Office of Preparedness and Emergency Operations (ANC), delete the following component “Division of Emergency Care Coordination Center (ECCC) (ANC5)” in its entirety.

II. Delegations of Authority. All delegations and redelegations of authority made to officials and employees of affected organizational components will continue in them or their successors pending further redelegation, provided they are consistent with this reorganization.

Dated: January 24, 2013.
E.J. Holland, Jr.,
Assistant Secretary for Administration.

[FR Doc. 2013-02385 Filed 2-1-13; 8:45 am]

BILLING CODE 4150-37-P